DEPARTMENT OF COMMERCE

International Trade Administration

[A-588-852]

Notice of Final Determination of Sales at Less Than Fair Value: Structural Steel Beams From Japan

AGENCY: Import Administration, International Trade Administration, Department of Commerce.

EFFECTIVE DATE: April 25, 2000.

FOR FURTHER INFORMATION CONTACT: Juanita H. Chen or Robert Bolling, Import Administration, International Trade Administration, U.S. Department of Commerce, 1401 Constitution Avenue, N.W., Washington, DC 20230; telephone 202-482-0409 and 202-482-3434, respectively.

The Applicable Statute and Regulations

Unless otherwise indicated, all citations to the statute are references to the provisions effective January 1, 1995, the effective date of the amendments made to the Tariff Act of 1930 (“Act”) by the Uruguay Round Agreements Act (“URAA”). In addition, unless otherwise indicated, all citations to the Department regulations are to the regulations at 19 CFR Part 351 (April 1999).

Final Determination

We determine that Structural Steel Beams (“Structurals”) from Japan are being, or are likely to be, sold in the United States at less than fair value (“LTFV”), as provided in Section 735 of the Act. The estimated margins are shown in the “Continuation of Suspension of Liquidation” section of this notice.

Case History

On February 11, 2000, we published in the Federal Register the preliminary determination in this investigation. See Notice of Preliminary Determination of Sales at Less Than Fair Value: Structural Steel Beams from Japan, 65 FR 6992 (February 11, 2000) (“Preliminary Determination”). No interested parties have filed case briefs or rebuttal briefs on the Preliminary Determination and no request for a hearing has been received by the Department.

Scope of Investigation

For purposes of this investigation, the products covered are doubly-symmetric shapes, whether hot- or cold-rolled, drawn, extruded, formed or finished, having at least one dimension of at least 80 mm (3.2 inches or more), whether of carbon or alloy (other than stainless) steel, and whether or not drilled, punched, notched, painted, coated, or clad. These products (“Structural Steel Beams”) include, but are not limited to, wide-flange beams (“W” shapes), bearing piles (“HP” shapes), standard beams (“S” or “I” shapes), and M-shapes.

All products that meet the physical and metallurgical descriptions provided above are within the scope of this investigation unless otherwise excluded. The following products, are outside and/or specifically excluded from the scope of this investigation:

• Structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise under investigation is dispositive.

Period of Investigation

The period of investigation (“POI”) is July 1, 1998 through June 30, 1999.

Facts Available

In the Preliminary Determination, the Department based the dumping margins for respondents Kawasaki Steel Corporation, Nippon Steel Corporation, NKK Corporation/Toa Steel Co., Ltd., and Sumitomo Metals Industries, Ltd., on facts otherwise available under Section 776(a)(2)(A) of the Act because these respondents failed to participate in the investigation and failed to provide information requested by the Department needed to calculate a dumping margin as detailed in the Preliminary Determination. The Department based the dumping margins for respondent Tokyo Steel Manufacturing Co., Ltd. on facts otherwise available under Section 776(a)(2)(B) of the Act because this respondent failed to provide the information requested by the Department in the form or manner requested as detailed in the Preliminary Determination. The Department based the dumping margins for respondent Topy Industries, Limited, on facts otherwise available under Section 776(a)(2)(A) of the Act because this respondent only provided information responding to Section A of the Department's antidumping questionnaire and failed to provide any other information requested by the Department needed to calculate a dumping margin as detailed in the Preliminary Determination.

In selecting from among the facts otherwise available, section 776(b) of the Act provides that adverse inferences may be used when a party fails to cooperate by not acting to the best of its ability to comply with the Department's requests for information. As detailed in the Preliminary Determination, the Department has determined that the use of adverse inferences is warranted for all respondents because all respondents have failed to cooperate to the best of their abilities in this investigation.

Further, section 776(b) of the Act states that an adverse inference may include reliance on information derived from the petition or any other information placed on the record. See also “Statement of Administrative Action” (“SAA”) accompanying the URAA, H.R. Rep. No. 103-316, 829-831 (1994). Pursuant to Section 776(b) of the Act, the Department applied the highest margin calculated from the information placed on the record by petitioners on August 13, 1999 and November 12, 1999. We continue to find this margin corroborated, pursuant to Section 776(c) of the Act, for the reasons discussed in the Preliminary Determination. No interested parties have objected to the use of adverse facts available for the mandatory respondents in this investigation, nor to the Department's choice of facts available. Furthermore, the Department has received no request for a hearing in this investigation. Accordingly, for its final determination, the Department is continuing use of the highest margin alleged by petitioners for all non-responding mandatory respondents in this investigation.

The All-Others Rate

No interested parties have filed case briefs or rebuttal briefs on this issue. Accordingly, the Department is continuing to base the “all-others” rate on the simple average of margins submitted to the record by petitioners on August 13, 1999 and November 12, 1999 which is 31.98 percent, for the reasons discussed in the Preliminary Determination.

Continuation of Suspension of Liquidation

In accordance with Section 735(c)(1)(B) of the Act, we are directing the U.S. Customs Service (“Customs”) to continue to suspend liquidation of all entries of subject merchandise from Japan that are entered, or withdrawn from warehouse, for consumption on or after February 11, 2000, the date of publication of the Preliminary Determination in the Federal Register.

We will instruct Customs to require a cash deposit or posting of a bond for each entry equal to the margins shown below. These suspension of liquidation instructions will remain in effect until further notice. The weighted-average dumping margins are as follows:

Exporter/manufacturer | Weighted-average margin (percentage)
Kawasaki Steel Corporation | 65.21
Nippon Steel Corporation | 65.21
NKK Corporation/Toa Steel Co., Ltd | 65.21
Sumitomo Metals Industries, Ltd | 65.21
Tokyo Steel Manufacturing Co., Ltd | 65.21
Topy Industries, Limited | 65.21
All Others | 31.98

ITC Notification

In accordance with Section 735(d) of the Act, we have notified the International Trade Commission (“ITC”) of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of the subject merchandise entered, or withdrawn from warehouse, for consumption on or after the effective date of the suspension of liquidation.

This determination is issued and published in accordance with Sections 735(d) and 777(i)(1) of the Act.

Dated: April 14, 2000.
Troy H. Cribb,
Acting Assistant Secretary for Import Administration.

[FR Doc. 00-10299 Filed 4-24-00; 8:45 am]

BILLING CODE 3510-DS-P